DEPARTMENT OF HEALTH AND HUMAN SERVICES

Administration for Children and Families

Submission for Office of Management and Budget Review; Human Trafficking Youth Prevention Education Demonstration Grant Program Process Evaluation (New Collection)

AGENCY: Office of Planning, Research, and Evaluation, Administration for Children and Families, Department of Health and Human Services.

ACTION: Request for public comments.

SUMMARY: The Office of Planning, Research, and Evaluation (OPRE), Administration for Children and Families (ACF), U.S. Department of Health and Human Services (HHS), in collaboration with the Office on Trafficking in Persons (OTIP), is proposing a new data collection activity for the Human Trafficking Youth Prevention Education (HTYPE) Demonstration Grant Program Process Evaluation. The process evaluation will explore whether the program is being implemented as intended, describe the successes and barriers that have been encountered, and highlight the changes that may be needed to support program implementation.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing opreinfocollection@acf.hhs.gov. All emailed requests should be identified by the title of the information collection.

SUPPLEMENTARY INFORMATION: Description: The goal of the HTYPE Demonstration Grant Program is to support local educational agencies (LEA) to partner with a nonprofit or Non-Governmental Organization to build the capacity of schools to provide skills-based human trafficking prevention education for educators, other staff, and students, and to establish a Human Trafficking School Safety Protocol (HTSSP) that addresses the safety, security, and well-being of staff and students. Eight HTYPE Demonstration Program project grants were awarded in September 2020, with a period of performance of 36 months.

The purpose of the proposed information collection is to investigate and document how HTYPE projects approach and accomplish the goals of the HTYPE Demonstration Grant Program, inform ACF's efforts to support human trafficking prevention education in schools, and inform future evaluation efforts.

The proposed information collection activities include:

(1) One-time, semi-structured interviews or focus groups with trained LEA staff and implementers at select schools from each grant recipient site. Interviews/focus groups will include questions focused on implementation models, participant and implementer engagement, and implementation facilitators and barriers.

(2) One-time, semi-structured interviews with school staff related to the process and implementation of the HTSSP at select schools from each grant recipient site.

(3) One-time web survey with school administrators, which will include questions focused on school context and engagement, training mandates, implementation models, and implementation facilitators and barriers.

(4) One-time web survey with school staff tasked with implementing the HTYPE curriculum, which will include questions focused on educator training, student curriculum implementation models and quality, participant and implementer engagement, and implementation facilitators and barriers.

Respondents: LEA staff who have been involved in the HTYPE demonstration programs, including school leadership/administrators, curriculum implementers, and staff who have received human trafficking training.

Annual Burden Estimates
Instrument | Number of respondents (total over request period) | Number of responses per respondent (total over request period) | Avg. burden per response (in hours) | Total/annual burden (in hours)
HTYPE Training Implementation Interview/Focus Group Guide | 192 | 1 | 1.5 | 288
HTYPE HTSSP Walk-Through Guide | 24 | 1 | .75 | 18
HTYPE School Administrator Survey | 321 | 1 | .25 | 80
HTYPE Implementer Survey | 1,437 | 1 | .25 | 359

Estimated Total Annual Burden Hours: 745.

Authority: Section 105(d)(2) of the Trafficking Victims Protection Act (TVPA) of 2000 (Pub. L. 106-386) 105 [22 U.S.C. 7103].

Mary B. Jones,
ACF/OPRE Certifying Officer.

[FR Doc. 2022-26224 Filed 12-1-22; 8:45 am]

BILLING CODE 4184-47-P